DEPARTMENT OF THE INTERIOR

Fish and Wildlife Service

Coastal Barrier Improvement Act of 1990; Amendments to the Coastal Barrier Resources System

AGENCY: Fish and Wildlife Service, Interior.

ACTION: Notice.

SUMMARY: We, the Fish and Wildlife Service, have replaced one Coastal Barrier Resources System map in North Carolina, as directed by Congress. We are using this notice to inform the public about the distribution and availability of the revised map.

DATES: The boundary revisions for these units became effective on October 19, 2000.

FOR FURTHER INFORMATION CONTACT: Dr. Benjamin N. Tuggle, Department of the Interior, U.S. Fish and Wildlife Service, Division of Federal Program Activities, (703) 358-2161.

SUPPLEMENTARY INFORMATION:

Background

In 1982, Congress passed the Coastal Barrier Resources Act (Pub L. 97-348) to restrict Federal spending that could foster development of undeveloped coastal barriers along the Atlantic and Gulf of Mexico coasts. In the Coastal Barrier Improvement Act of 1990 (Pub L. 101-591), Congress amended the 1982 Act to broaden the definition of a coastal barrier, and approved a series of maps entitled “Coastal Barrier Resources System” dated October 24, 1990. These maps identify and depict those coastal barriers located on the coasts of the Atlantic Ocean, Gulf of Mexico, and the Great Lakes, and in Puerto Rico and the Virgin Islands that are subject to the Federal funding limitations outlined in the Act.

The Act also defines our responsibilities regarding the System maps. We have official custody of these maps, and prepare and distribute copies of the maps. We published a notice of the filing, distribution, and availability of the maps entitled “Coastal Barrier Resources System” dated October 24, 1990, in the Federal Register on June 6, 1991 (56 FR 26304-26312). We have announced all subsequent map revisions in the Federal Register.

Revisions to the Coastal Barrier Resources System in North Carolina

Section 1 of Public Law 106-332, enacted on October 19, 2000, requires us to revise the map of Coastal Barrier Resources System Unit NC-01 in Dare and Currituck Counties, North Carolina. The changes to Pine Island Unit NC-01 will conform the boundary of the unit to the National Audubon Society's Pine Island Sanctuary property boundary. The changes will also include “associated aquatic habitat” as defined by Service guidelines.

How To Get Copies of the Maps

The Service has given copies of the revised System maps to the House of Representatives Committee on Resources and the Committee on Banking and Financial Services, the Senate Committee on Environment and Public Works, and to each appropriate Federal, State, or local agency having jurisdiction over the areas in which the modified units are located.

You can purchase copies of System maps from the U.S. Geological Survey, Earth Science Information Center, P.O. Box 25286, Mail Stop 517, Denver, Colorado 80225. The cost is $10.00 per map, plus a $5.00 shipping and handling fee for the entire order. Maps can also be viewed at the following Service offices:

Washington Office—all System maps, U.S. Fish and Wildlife Service, Division of Federal Program Activities, 4401 N. Fairfax Drive Room 400, Arlington, Virginia 22203, (703) 358-2183

Southeast Regional Office—all System maps for NC, SC, GA, FL, AL, MS and LA Region 4, U.S. Fish and Wildlife Service, 1875 Century Blvd., Atlanta, Georgia 30345, (404) 679-7125

Field Office—System maps for North Carolina, Field Supervisor, U.S. Fish and Wildlife Service, Raleigh Field Office 551-F Pylon Drive, P.O. Box 33726, Raleigh, NC 27636-3726, (919) 856-4520

Dated: January 22, 2001.
Marshall P. Jones, Jr.,
Acting Director, Fish and Wildlife Service.

[FR Doc. 01-4032 Filed 2-15-01; 8:45 am]

BILLING CODE 4310-55-P